DEPARTMENT OF EDUCATION

Office of Postsecondary Education; Overview Information: Fulbright-Hays Doctoral Dissertation Research Abroad Fellowship Program; Notice Inviting Applications for New Awards for Fiscal Year (FY) 2005

Catalog of Federal Domestic Assistance (CFDA) Number: 84.022A.

Dates:

Applications Available: August 27, 2004.

Deadline for Transmittal of Applications: October 19, 2004.

Eligible Applicants: Institutions of higher education (IHE). As part of the application process, students submit individual applications to the IHE. The IHE then officially submits all eligible individual student applications with its grant application to the Department.

Estimated Available Funds: The Administration has requested $4,440,379 for this program for FY 2005. The actual level of funding, if any, depends on final congressional action. However, we are inviting applications to allow enough time to complete the grant process if Congress appropriates funds for this program.

Estimated Range of Fellowship Awards: $15,000-$60,000.

Estimated Average Size of Fellowship Awards: $29,603.

Estimated Number of Fellowship Awards: 150.

Note: The Department is not bound by any estimates in this notice.

Project Period: The institutional project period is 18 months beginning July 1, 2005. Students may request funding for 6-12 months.

Full Text of Announcement

I. Funding Opportunity Description

Purpose of Program: The Fulbright-Hays Doctoral Dissertation Research Abroad Fellowship Program provides opportunities to graduate students to engage in full-time dissertation research abroad in modern foreign languages and area studies.

Priority: In accordance with 34 CFR 75.105(b)(2)(ii), this priority is from the regulations for this program (34 CFR 662.21(d)).

Absolute Priority: For FY 2005 this priority is an absolute priority. Under 34 CFR 75.105(c)(3) we consider only applications that meet this priority.

This priority is: A research project that focuses on one or more of the following areas: Africa, East Asia, Southeast Asia and the Pacific Islands, South Asia, the Near East, East Central Europe and Eurasia, and the Western Hemisphere (Canada, Central and South America, Mexico and the Caribbean). Please note that applications that propose projects focused on Western Europe will not be funded.

Program Authority: 22 U.S.C. 2452(b)(6).

Applicable Regulations: (a) The Education Department General Administrative Regulations (EDGAR) in 34 CFR parts 74, 75, 77, 81, 82, 84, 85, 86, 97, 98, and 99. (b) The regulations in 34 CFR part 662.

II. Award Information

Type of Award: Discretionary grants redistributed, as fellowships to individual beneficiaries.

Estimated Available Funds: The Administration has requested $4,440,379 for this program for FY 2005. The actual level of funding, if any, depends on final congressional action. However, we are inviting applications to allow enough time to complete the grant process if Congress appropriates funds for this program.

Estimated Range of Fellowship Awards: $15,000-$60,000.

Estimated Average Size of Fellowship Awards: $29,603.

Estimated Number of Fellowship Awards: 150.

Note: The Department is not bound by any estimates in this notice.

Project Period: The institutional project period is 18 months beginning July 1, 2005. Students may request funding for 6-12 months.

III. Eligibility Information

1. Eligible Applicants: Institutions of higher education (IHE). As part of the application process, students submit individual applications to the IHE. The IHE then officially submits all eligible individual student applications with its grant application to the Department.

2. Cost Sharing or Matching: This program does not require cost sharing or matching.

IV. Application and Submission Information

1. Address To Request Application Package: Ms. Karla Ver Bryck Block or Ms. Sara Starke, International Education Programs Service, U.S. Department of Education, 1990 K Street, NW., 6th floor, Washington, DC 20006-8521. Telephone: (202) 502-7632 or 7688 or by e-mail: ddra@ed.gov.

If you use a telecommunications device for the deaf (TDD), you may call the Federal Information Relay Service (FIRS) at 1-800-877-8339.

Individuals with disabilities may obtain a copy of the application package in an alternative format (e.g., Braille, large print, audiotape, or computer diskette) by contacting the program contact persons listed in this section.

2. Content and Form of Application Submission: Requirements concerning the content of an application, together with the forms you must submit, are in the application package for this program.

Page Limit: The application narrative is where the student applicant addresses the selection criteria that reviewers use to evaluate the application. The student applicant must limit the narrative to the equivalent of 10 pages and the bibliography to the equivalent of 2 pages, using the following standards:

• A “page” is 8.5″ × 11″, on one side only, with 1″ margins at the top, bottom, and both sides.

• Double space (no more than three lines per vertical inch) all text in the application narrative. However, you may single space all text in charts, tables, figures, graphs, titles, headings, footnotes, endnotes, quotations, bibliography, and captions.

• Use a font that is either 12-point or larger or no smaller than 10 pitch (characters per inch).

• You may use a 10-point font in charts, tables, figures, graphs, footnotes and endnotes. However, these items are considered part of the narrative and counted within the 10 page limit.

The page limit only applies to the application narrative and bibliography. However, student applicants must include their complete responses to the selection criteria in the application narrative.

We will reject your application if—

• You apply these standards and exceed the page limit; or

• You apply other standards and exceed the equivalent of the page limit.

3. Submission Dates and Times:

Applications Available: August 27, 2004.

Deadline for Transmittal of Applications: October 19, 2004.

Applications for grants under this program must be submitted electronically using the Electronic Grant Application System (e-Application) available through the Department's e-GRANTS system. For information (including dates and times) about how to submit your application electronically through the e-GRANTS system or to request a waiver of the electronic submission requirement, please refer to Section IV. 6. Procedures for Submitting Applications in this notice.

We do not consider an application that does not comply with the deadline requirements.

4. Intergovernmental Review: This program is not subject to Executive Order 12372 and the regulations in 34 CFR part 79.

5. Funding Restrictions: We reference regulations outlining funding restrictions in the Applicable Regulations section of this notice.

6. Procedures for Submitting Applications: We are requiring that applications for grants under this program be submitted electronically, unless the applicant IHE requests a waiver of this requirement in accordance with the instructions in this section.

a. Electronic Submission of Applications

Applications for grants under the Fulbright-Hays Doctoral Dissertation Research Abroad Fellowship Program—CFDA Number 84.022A must be submitted electronically using e-Application available through the Department's e-GRANTS system. The e-GRANTS system is accessible through its portal page at: http://e-grants.ed.gov.

• The process for submitting applications electronically under the Fulbright-Hays Doctoral Dissertation Research Abroad Fellowship Program has several parts. The following is a brief summary of the process; however, all applicants should review and follow the detailed description of the application process that is contained in the application package. In summary, the major parts are as follows: (1) IHEs must e-mail the following information to ddra@ed.gov: Name of university, full name and e-mail address of potential project director. We recommend that applicant IHEs submit this information as soon as possible to ensure that applicant IHEs obtain access to the e-Application system well before the application deadline date. We suggest that applicant IHEs send this information no later than September 30, 2004, in order to facilitate timely submission of their applications; (2) Students complete their individual applications and submit them to their IHE's project director using e-Application; (3) Persons providing references for individual students complete and submit reference forms for the students and submit them to the IHE's project director using e-Application; and (4) The IHE's project director officially submits the IHE's application, which includes all eligible individual student applications, reference forms, and other required forms, using e-Application. Student transcripts, however, must be mailed or hand delivered to the Department on or before the application deadline date using the applicable mail or hand delivery instructions for paper applications in this notice.

Unless a waiver of the electronic submission requirement has been requested by the applicant IHE in accordance with the procedures in this section, except for student transcripts, all portions of the application must be submitted electronically.

If the applicant IHE is unable to submit an application through the e-GRANTS system, the applicant IHE must submit a written request for a waiver of the electronic submission requirement. In its request, the applicant IHE should explain the reason or reasons that prevent it from using the Internet to submit its application. The applicant IHE should address its request to: Ms. Karla Ver Bryck Block or Ms. Sara Starke, International Education Programs Service, U.S. Department of Education, 1990 K Street, NW., 6th floor, Washington, DC 20006-8521. Please submit the request no later than two weeks before the application deadline date. The applicant IHE's paper application must be submitted in accordance with the mail or hand delivery instructions described in this notice.

If, within two weeks of the application deadline date, the applicant IHE is unable to submit an application electronically, it must submit a paper application in accordance with the mail or hand delivery instructions described in this notice. The paper application must include a written request for a waiver documenting the reasons that prevented the applicant IHE from using the Internet to submit its application.

When using e-Application to complete their parts of the application, individual students, persons providing references and the applicant IHE will be entering data online. Do not e-mail an electronic copy of any part of a grant application to us. The data that is entered online will be saved into a database.

If the applicant IHE participates in e-Application, please note the following:

• The applicant IHE must submit its grant application electronically through the Internet using the software provided on the e-Grants Web site (http://e-grants.ed.gov) by 4:30 p.m., Washington, DC time, on the application deadline date. The regular hours of operation of the e-Grants Web site are 6 a.m. Monday until 7 p.m. Wednesday; and 6 a.m. Thursday until midnight Saturday, Washington, DC time. Please note that the system is unavailable on Sundays, and after 7 p.m. on Wednesdays for maintenance, Washington, DC time. Any modifications to these hours are posted on the e-Grants Web site. We strongly recommend that applicant IHEs do not wait until the application deadline date to initiate an e-Application package.

• An applicant IHE will not receive additional point value because it submits the application in electronic format, nor will we penalize the applicant IHE if it requests a waiver and submits the application in paper format because the applicant IHE was prevented from submitting the application electronically as required.

• The applicant IHE must submit all documents, except for student transcripts, electronically, including the Application for Federal Education Assistance (ED 424) and all necessary assurances and certifications.

• Student transcripts must be mailed or hand delivered to the Department on or before the application deadline date in accordance with the applicable mail or hand delivery instructions for paper applications described in this notice.

• The e-Application must comply with any page limit requirements described in this notice.

• After the individual student applicant electronically submits his/her application to his/her IHE, the student will receive an automatic acknowledgement. In addition, the applicant IHE's Project Director will receive a copy of this acknowledgement by e-mail. After a person submits a reference electronically, he/she will receive an online confirmation. After the applicant IHE submits its application, including all eligible individual student applications, to the Department, the applicant IHE will receive an automatic acknowledgement, which will include a PR/Award number (an identifying number unique to the IHE's application).

• Within three working days after the applicant IHE submits its electronic application, it must fax a signed copy of the Application for Federal Education Assistance (ED 424) to the Application Control Center after following these steps:

1. Print ED 424 from e-Application.

2. The applicant IHE's Authorizing Representative must sign this form.

3. Place the PR/Award number in the upper right hand corner of the hard copy signature page of the ED 424. Fax the signed ED 424 to the Application Control Center at (202) 245-6272.

• We may request that the applicant IHE give us original signatures on other forms at a later date. Application Deadline Date Extension in Case of System Unavailability: If the applicant IHE is prevented from submitting its application on the application deadline date because the e-Application system is unavailable, we will grant the applicant IHE an extension of one business day in order to transmit its application electronically, by mail, or by hand delivery. We will grant this extension if:

1. The applicant IHE's Project Director is a registered user of e-Application and has initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting the applicant IHE an extension. To request this extension or to confirm our acknowledgement of any system unavailability, the applicant IHE may contact either (1) The person listed elsewhere in this notice under FOR FURTHER INFORMATION CONTACT (see VII. Agency Contact) or (2) the e-GRANTS help desk at 1-888-336-8930.

Individual students, persons providing referrals and applicant IHEs may access the parts of the electronic grant application that they must complete at: http://e-grants.ed.gov.

b. Submission of Paper Applications by Mail

If the applicant IHE has requested a waiver of the electronic submission requirement, it may mail (through the U.S. Postal Service or a commercial carrier) its paper application to the Department. The original and two copies of the application must be mailed on or before the application deadline date to the following address: U.S. Department of Education,Application Control Center,Attention: (CFDA Number 84.022A),400 Maryland Avenue, SW.,Washington, DC 20202.

The applicant IHE must show proof of mailing consisting of one of the following:

1. A legibly dated U.S. Postal Service Postmark;

2. A legible mail receipt with the date of mailing stamped by the U.S. Postal Service;

3. A dated shipping label, invoice, or receipt from a commercial carrier; or

4. Any other proof of mailing acceptable to the U.S. Secretary of Education.

If the applicant IHE mails the application through the U.S. Postal Service, please note that we do not accept either of the following as proof of mailing:

1. A private metered postmark, or

2. A mail receipt that is not dated by the U.S. Postal Service.

If the applicant IHE's application is post marked after the application deadline date, we will notify the applicant IHE that we will not consider the application.

Note: Applicants should note that the U.S. Postal Service does not uniformly provide a dated postmark. Before relying on this method, applicants should check with their local post office.

c. Submission of Paper Applications by Hand Delivery

If the applicant IHE has requested a waiver of the electronic submission requirement, it (or a courier service) may deliver the paper application to the Department by hand. The original and two copies of the applicant IHE's application must be hand-delivered on or before the application deadline date to the following address: U.S. Department of Education, Application Control Center, Attention: (CFDA Number 84.022A), 550 12th Street, SW., Room 7041, Potomac Center Plaza, Washington, DC 20202-4260. The Application Control Center accepts deliveries daily between 8 a.m. and 4:30 p.m., Washington, DC time, except Saturdays, Sundays, and Federal holidays. A person delivering an application must show identification to enter the building.

Note for Mail or Hand Delivery of Paper Applications: If the applicant IHE mails or hand delivers its application to the Department:

1. It must indicate on the envelope and—if not provided by the Department—in Item 4 of the Application for Federal Education Assistance (ED 424 (exp. 11/30/2004)) the CFDA number—and suffix letter, if any—of the competition under which it is submitting the application.

2. The Application Control Center will mail a Grant Application Receipt Acknowledgment to the applicant IHE. If the applicant IHE does not receive the notification of application receipt within 15 days from the mailing of its application, the applicant IHE should call the U.S. Department of Education Application Control Center at (202) 245-6288.

V. Application Review Information

1. Selection Criteria: The selection criteria for this program are in 34 CFR 662.21.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of the project period, the grantee institution must submit a final performance report, including the final reports of all of the grantee institution's fellows, and financial information, as directed by the Secretary. The grantee institution and fellows are required to use the electronic reporting system Evaluation of Exchange, Language, International and Area Studies (EELIAS) system to complete the final report.

4. Performance Measures: The following performance measure has been developed to evaluate the overall effectiveness of the Fulbright-Hays Doctoral Dissertation Research Abroad Fellowship Program—The improvement of language proficiency of fellows. All grantees will be expected to provide documentation of the improved language proficiency of the fellows through the EELIAS system.

VII. Agency Contact

For Further Information Contact: Ms. Karla Ver Bryck Block or Ms. Sara Starke, International Education Programs Service, U.S. Department of Education, 1990 K Street, NW., 6th floor, Washington, DC 20006-8521. Telephone: (202) 502-7632 or 7688 or by e-mail: ddra@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 18, 2004.
Sally L. Stroup,
Assistant Secretary for Postsecondary Education.

[FR Doc. 04-19277 Filed 8-20-04; 8:45 am]

BILLING CODE 4000-01-P